Title 3—

The President

Proclamation 8929 of January 31, 2013

American Heart Month, 2013

By the President of the United States of America

A Proclamation

Heart disease is the leading cause of death among American men and women, claiming well over half a million lives annually. While no one is immune to heart disease, everyone can take steps to reduce their risk. During American Heart Month, we make a commitment—for ourselves and our families—to staying healthy and keeping our hearts strong.

Although genetic factors likely play a role in cardiovascular disease, there are also several controllable risk factors, including: blood cholesterol levels, high blood pressure, diabetes, poor diet, obesity, tobacco use, and physical inactivity. Any one of them can lead to heart disease, and additional factors magnify the risk. That is why a heart-healthy lifestyle is so important. Certain improvements to daily routines—like eating healthy, not smoking, limiting alcohol use, and getting routine health screenings—can lower several of these risk factors and set the stage for a long and healthy life.

My Administration is committed to helping Americans achieve and maintain heart health. Under the Affordable Care Act, many insurance plans must cover certain preventive services like blood pressure screening and obesity screening at no out-of-pocket cost to the patient. In 2014, a new Health Insurance Marketplace will make affordable health insurance available to millions of men, women, and children—including those with pre-existing conditions. We are also working to prevent heart disease through efforts like First Lady Michelle Obama's Let's Move! initiative, which encourages young people and families to eat healthy and get active. And throughout the Federal Government, we are partnering with communities, health care providers, organizations, and other stakeholders to make care more accessible and prevent more heart attacks than ever before. To learn more, visit www.HealthCare.gov.

On Friday, February 1, Michelle and I invite all Americans to join in marking National Wear Red Day. By wearing red, we pay tribute to men and women affected by heart disease, recognize dedicated health care professionals, honor researchers working toward tomorrow's breakthroughs, and demonstrate our personal commitment to a heart-healthy lifestyle.

In acknowledgement of the importance of the ongoing fight against cardiovascular disease, the Congress, by Joint Resolution approved December 30, 1963, as amended (77 Stat. 843; 36 U.S.C. 101), has requested that the President issue an annual proclamation designating February as “American Heart Month.”

NOW, THEREFORE, I, BARACK OBAMA, President of the United States of America, do hereby proclaim February 2013 as American Heart Month, and I invite all Americans to participate in National Wear Red Day on February 1, 2013. I also invite the Governors of the States, the Commonwealth of Puerto Rico, officials of other areas subject to the jurisdiction of the United States, and the American people to join me in recognizing and reaffirming our commitment to fighting cardiovascular disease.

IN WITNESS WHEREOF, I have hereunto set my hand this thirty-first day of January, in the year of our Lord two thousand thirteen, and of the Independence of the United States of America the two hundred and thirty-seventh.

[FR Doc. 2013-02754

Filed 2-5-13; 8:45 am]

Billing code 3295-F3